DEPARTMENT OF COMMERCE

International Trade Administration

[A-588-804]

BALL BEARINGS AND PARTS THEREOF FROM JAPAN; AMENDED FINAL RESULTS OF ANTIDUMPING DUTY ADMINISTRATIVE REVIEW

AGENCY: Import Administration, International Trade Administration, Department of Commerce.

ACTION: Notice of Amended Final Results of Antidumping Duty Administrative Review.

EFFECTIVE DATE: October 15, 2002.

SUMMARY: On August 30, 2002, the Department of Commerce published in the Federal Register the final results of the administrative review of the antidumping duty order on ball bearings and parts thereof from France, Germany, Italy, Japan, and the United Kingdom. The period of review is May 1, 2000, through April 30, 2001. Based on the correction of certain ministerial errors, we have changed the margins for ball bearings and parts thereof for two Japanese companies, Koyo Seiko Co., Ltd., and NTN Corporation.

FOR FURTHER INFORMATION CONTACT: Please contact Lyn Johnson at (202) 482-5287 or Dave Dirstine at (202) 482-4033; AD/CVD Enforcement 3, Import Administration, International Trade Administration, U.S. Department of Commerce, Washington, DC 20230.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (2001).

Background

On August 30, 2002, the Department published in the Federal Register the final results of the administrative reviews of the antidumping duty orders on ball bearings and parts thereof (ball bearings) from France, Germany, Italy, Japan, and the United Kingdom (67 FR 55780) (Final Results).

We received timely allegations from Koyo Seiko Co., Ltd. (Koyo), and NTN Corporation (NTN) that we made ministerial errors in the Final Results. In its September 4, 2002, comments Koyo alleges that the Department did not use Koyo's updated databases in the calculation of the final margin. The petitioner, The Torrington Company (Torrington), did not comment.

We agree with Koyo that we did not use its updated databases and, therefore, we have amended the final results to correct this error. See the analysis memorandum from the analyst to the file dated September 17, 2002, for a detailed description of the changes we made to correct our calculations of Koyo's dumping margin.

In its September 3, 2002, comments NTN alleges that the Department made a ministerial error that resulted in the treatment of all U.S. sales of samples as zero-priced sales even though there were non-zero-priced sample sales. We agree with NTN's assertion that this is a ministerial error and have removed only zero-priced sample sales from our margin calculations for the amended final results of review. See the analysis memorandum from the analyst to the file dated September 17, 2002, for a detailed description of the changes we made to correct NTN's margin calculation. On September 9, 2002, Torrington submitted an allegation that there was a typographical error in the draft liquidation instructions we had prepared for merchandise NTN had exported during the period of review. We agree with Torrington and have corrected the error in our liquidation instructions reflecting these amended final results of review.

Amended Final Results of Review

As a result of the correction of ministerial errors, the following weighted-average margins exist for exports of ball bearings by Koyo and NTN for the period May 1, 2000, through April 30, 2001:

Company | Margin (percent)
Koyo Seiko Co., Ltd. | 7.68
NTN Corporation | 9.34

The Department will determine, and the Customs Service shall assess, antidumping duties on all appropriate entries. We will issue appropriate assessment instructions directly to the Customs Service within 15 days of publication of these amended final results of review.

We will also direct the Customs Service to collect cash deposits of estimated antidumping duties on all appropriate entries in accordance with the procedures discussed in the Final Results and at the rates as amended by this determination. The amended deposit requirements are effective for all shipments of the subject merchandise entered, or withdrawn from warehouse, for consumption on or after the date of publication of this notice and shall remain in effect until publication of the final results of the next administrative review.

We are issuing and publishing these determinations and notice in accordance with sections 751(a)(1) and 777(i) of the Act and 19 CFR 351.210(c).

Dated: October 3, 2002.
Faryar Shirzad,
Assistant Secretary for Import Administration.

[FR Doc. 02-26113 Filed 10-11-02; 8:45 am]

BILLING CODE 3510-DS-S